DEPARTMENT OF HEALTH AND HUMAN SERVICES

Administration for Children and Families

Request for Statements of Interest

AGENCY: Administration for Children and Families.

ACTION: Request for Statements of Interest for the National Advisory Committee on the Trafficking of Children and Youth in the United States.

SUMMARY: Pursuant to the Preventing Sex Trafficking and Strengthening Families Act of 2014, Public Law 113-183, notice is hereby given of an opportunity to submit a Statement of Interest for the National Advisory Committee on Trafficking of Children and Youth in the United States (Committee). The purpose of the Committee is to advise the Secretary and the Attorney General on practical and general policies concerning improvements to the Nation's response to the sex trafficking of children and youth in the United States. The Committee will be composed of not more than 21 members whose diverse experience and background enable them to provide balanced points of view with regard to carrying out the duties of the Committee.

DATES: Statements of Interest must be received by 5 p.m. EST, July 20, 2016.

FOR FURTHER INFORMATION CONTACT: Contact Kate Cooper, ACF Office on Trafficking in Persons, phone (202) 205-4554 or email EndTrafficking@acf.hhs.gov. Additional information and the Statement of Interest Form are available at www.acf.hhs.gov/programs/endtrafficking/forms.

SUPPLEMENTARY INFORMATION: On September 29, 2014, President Obama signed the Preventing Sex Trafficking and Strengthening Families Act (Pub. L. 113-183). The Act established a National Advisory Committee on the Sex Trafficking of Children and Youth in the United States to advise the Secretary and the Attorney General on practical and general policies concerning the cooperation of Federal, State, local, and tribal governments; child welfare agencies; social service providers; physical health and mental health providers; victim service providers; State or local courts with responsibility for conducting or supervising proceedings relating to child welfare or social services for children and their families; Federal, State, and local police; juvenile detention centers and runaway and homeless youth programs; schools; the gaming and entertainment industry; and businesses and organizations that provide services to youth, on responding to sex trafficking.

The Secretary shall appoint members of the Committee in consultation with the Attorney General and National Governors Association. At least one Committee member shall be a former sex trafficking victim and two Committee members shall be Governors of States. Each member of the Committee shall be appointed for the 5-year life of the Committee. The Committee will advise on the development and implementation of successful interventions with children and youth who are exposed to conditions that make them vulnerable to, or victims of, sex trafficking; and recommendations for administrative or legislative changes necessary to use programs, properties, or other resources owned, operated, or funded by the Federal Government to provide safe housing for children and youth who are sex trafficking victims.

The Committee shall develop two tiers of recommended best practices for States to follow in combating the sex trafficking of children and youth based on multidisciplinary research and promising, evidence-based models and programs, including sample training materials, protocols, and screening tools to identify victims of trafficking and those at risk for trafficking; multidisciplinary strategies to identify victims, manage cases, and improve services; sample protocols and recommendations for cross-system collaborations; criteria and guidelines for safe residential placements for foster children who have been sex trafficked; and training guidelines for caregivers serving children and youth outside the home.

The Committee will share best practices and recommendations with State Governors and child welfare agencies on a quarterly basis.

The Committee shall submit an interim report to the Secretary, Attorney General, and Congress within 3 years after the establishment of the Committee and a final report within 4 years after the establishment of the Committee.

The Committee shall convene at least twice a year. This is an unpaid position and Committee members will not be considered employees of the Federal Government other than reimbursement of travel expenses and a per diem allowance in accordance with Federal Government regulations.

Dated: June 17, 2016.
Mark H. Greenberg,
Assistant Secretary for Children and Families.

[FR Doc. 2016-14980 Filed 6-23-16; 8:45 am]

BILLING CODE 4184-47-P